DEPARTMENT OF AGRICULTURE

Forest Service

36 CFR Part 294

Roadless Area Conservation; National Forest System Lands in Alaska

AGENCY: Forest Service, USDA.

ACTION: Notice of intent to prepare an environmental impact statement.

SUMMARY: The U.S. Department of Agriculture (USDA) is initiating an environmental impact statement (EIS) and public rulemaking process to address the management of inventoried roadless areas on the Tongass National Forest within the State of Alaska. This rulemaking is the result of a petition submitted by Governor Bill Walker's administration in January 2018 on behalf of the State of Alaska, pursuant to the Administrative Procedures Act. The petition was accepted by the Secretary of Agriculture in April 2018. The intent is to evaluate the regulatory exemption set forth in the petition, as well as to evaluate other management solutions that address infrastructure, timber, energy, mining, access, and transportation needs to further Alaska's economic development, while still conserving roadless areas for future generations.

DATES: Comments must be received in writing by October 15, 2018.

ADDRESSES: Comments may be submitted electronically at https://www.fs.usda.gov/project/?project=54511. In addition, written comments can be submitted via hard-copy mail to: Alaska Roadless Rule, USDA Forest Service, Alaska Region, Ecosystem Planning and Budget Staff, P.O. Box 21628, Juneau, Alaska 99802-1628.

All comments, including names and addresses, are placed in the record and are available for public inspection and copying.

FOR FURTHER INFORMATION CONTACT: Ken Tu, Interdisciplinary Team Leader, at 303-275-5156 or akroadlessrule@fs.fed.us. Individuals using telecommunication devices for the deaf (TDD) may call the Federal Information Relay Services at 1-800-877-8339 between 8 a.m. and 8 p.m. Eastern Time, Monday through Friday.

SUPPLEMENTARY INFORMATION: On January 12, 2001, the Department promulgated the Roadless Area Conservation Rule (2001 Roadless Rule) (66 FR 3244) establishing nationwide prohibitions on timber harvest, road construction and road reconstruction within inventoried roadless areas, with certain limited exceptions.

In 2001, the State of Alaska filed a complaint, challenging the Department's promulgation of the 2001 Roadless Rule and its application in Alaska. The Department and the State of Alaska reached a settlement in 2003, and the Department subsequently issued a rule temporarily exempting the Tongass National Forest from the Roadless Rule. In 2011, a federal court set aside the Tongass Exemption and reinstated the Roadless Rule on the Tongass National Forest. The district court's ruling was initially reversed by a three-judge panel of the Ninth Circuit, but the district court's ruling was ultimately upheld in a 6-5 en banc ruling in 2015. Consequently, the 2001 Roadless Rule remains in effect in Alaska and the Forest Service continues to apply the Rule to the Tongass and Chugach National Forests.

Purpose and Need

In response to the State of Alaska's petition for rulemaking, the Department, Forest Service, and State of Alaska agree that the controversy surrounding the management of roadless areas on the Tongass National Forest may be resolved through state-specific rulemaking. A long-term, durable approach to roadless area management is needed that accommodates the unique biological, social and economic situation in and around the Tongass National Forest. The Tongass National Forest is unique from other National Forests in respect to the size of the Tongass National Forest; the large percentage of roadless areas that comprise the Tongass National Forest; the degree of dependency of local communities on federal lands (the Tongass National Forest comprises almost 80% of southeast Alaska); as well as Alaska and Tongass National Forest-specific statutory considerations (e.g., Alaska National Interest Lands Conservation Act (ANILCA), Tongass Timber Reform Act (TTRA)).

The Department and Forest Service believe that current timber harvest and road construction/reconstruction restrictions can be adjusted for the Tongass National Forest in a manner that meaningfully addresses local economic and development concerns while balancing roadless area conservation needs.

The State of Alaska believes that roadless conservation interests for the Tongass National Forest can be adequately protected under the Tongass Land Management Plan and that the 2001 Roadless Rule prohibitions are unnecessary. In addition, the State believes application of the 2001 Roadless Rule substantially impacts the social and economic fabric of southeast Alaska and violates ANILCA and TTRA.

In response to the State's petition, commercial and non-profit organizations have expressed strong opinions, for and against, the idea of a regulatory review.

Proposed Action

The Department proposes to develop a durable and long-lasting regulation for the conservation and management of roadless areas on the Tongass National Forest. The state-specific roadless rule would establish a land classification system designed to conserve roadless area characteristics on the Tongass National Forest while accommodating timber harvesting and road construction/reconstruction activities that are determined to be needed for forest management, economic development opportunities, and the exercise of valid existing rights or other non-discretionary legal authorities.

Alternatives to the Proposed Action

The other alternatives being considered at this time are the no-action alternative, which is the continuation of current management of the Tongass National Forest in Alaska in accordance with the 2001 Roadless Rule, and an alternative that would exempt the Tongass National Forest from the provisions of that 2001 Roadless Rule, but leave current management under the 2001 Roadless Rule in place on the Chugach National Forest.

Cooperating Agencies

The State of Alaska will participate as a cooperating agency in the preparation of the EIS. Federally recognized Tribes within the Tongass National Forest have been invited to participate as a cooperating agency.

Responsible Official

The Responsible Official for the rulemaking and EIS is the Secretary of Agriculture or his designee.

Decision To Be Made

The Responsible Official will determine appropriate management direction for roadless areas within the State of Alaska, including appropriate exceptions to address essential infrastructure, timber, energy, mining, access, and transportation systems necessary to further Alaska's economic development interests, while at the same time conserving roadless areas in Alaska for generations to come.

Scoping Process

This Notice of Intent initiates the scoping process in compliance with the National Environmental Policy Act and its implementing regulations (40 CFR part 1500-1508). As part of the scoping period, the Forest Service, on behalf of the Department, solicits public comment on the nature and scope of the environmental, social, and economic issues related to Alaska-specific rulemaking that should be analyzed in depth in the Draft EIS.

Comments collected during scoping of the Alaska-specific rulemaking will be used to refine the proposed action, define the scope of the analysis, and develop alternatives to the proposed action if needed. Public meetings are planned to be held in Juneau (September 13, 2018), Ketchikan (September 17, 2018), Hoonah (September 17, 2018), Craig (September 18, 2018), Angoon (September 18, 2018), Point Baker/Port Protection (September 19, 2018), Wrangell (September 24, 2018), Sitka (September 24, 2018), Petersburg (September 25, 2018), Yakutat (September 25, 2018), Kake (September 26, 2018), and Anchorage (September 26, 2018), and Washington DC (date to be determined). Additional information on meeting times and locations will be provided through the project website and local media.

Estimated Timeline

The Draft EIS and proposed rule are estimated to be released in early summer 2019. The Final EIS is estimated to be released in spring 2020, with a final rule expected in June 2020.

Dated: August 24, 2018.
Christopher B. French,
Acting Deputy Chief.

[FR Doc. 2018-18937 Filed 8-29-18; 8:45 am]

BILLING CODE 3411-15-P